INTERNATIONAL TRADE COMMISSION

[USITC SE-02-027]

Sunshine Act Meeting

AGENCY: International Trade Commission.

Time and Date: September 12, 2002 at 2:00 p.m.

Place: Room 101, 500 E Street SW., Washington, DC 20436, Telephone: (202) 205-2000.

Status: Open to the public.

Matters to be Considered: 1. Agenda for future meeting: None.

2. Minutes

3. Ratification List.

4. Inv. Nos. 701-TA-376-377 and 379 and 731-TA-788-793 (Final)(Remand)(Certain Stainless Steel Plate from Belgium, Canada, Italy, Korea, South Africa, and Taiwan)—briefing and vote. (The Commission is currently scheduled to transmit its determination and Commissioners' views on remand to the Court of International Trade on or before September 27, 2002.)

5. Inv. Nos. 701-TA-309-A-B and 731-TA-528 (Review)(Remand)(Pure Magnesium from Canada)—briefing and vote. (The Commission is currently scheduled to transmit its determination and Commissioners' views on remand to the NAFTA Binational Panel on or before October 15, 2002.)

6. Outstanding action jackets: None.

In accordance with Commission policy, subject matter listed above, not disposed of at the scheduled meeting, may be carried over to the agenda of the following meeting.

By order of the Commission:
Issued: September 3, 2002.
Marilyn R. Abbott,
Secretary to the Commission.

[FR Doc. 02-22780 Filed 9-4-02; 11:05 am]

BILLING CODE 7020-02-P